DEPARTMENT OF THE INTERIOR

Geological Survey

[GX14N05ESB0500]

Agency Information Collection Activities: Request for Comments on the Registry of Climate Change Vulnerability Assessments

AGENCY: U.S. Geological Survey (USGS), Interior.

ACTION: Notice of a new information collection, Registry of Climate Change Vulnerability Assessments.

SUMMARY: We (the U.S. Geological Survey) are notifying the public that we have submitted to the Office of Management and Budget (OMB) the information collection request (ICR) described below. To comply with the Paperwork Reduction Act of 1995 (PRA) and as part of our continuing efforts to reduce paperwork and respondent burden, we invite the general public and other Federal agencies to take this opportunity to comment on this ICR.

DATES: To ensure that your comments are considered, the OMB must receive them on or before June 20, 2014.

ADDRESSES: Please submit your written comments on this information collection directly to the Office of Management and Budget, Office of Information and Regulatory Affairs, Attention: Desk Officer for the Department of the Interior, at OIRA_SUBMISSION@omb.eop.gov (email); or (202) 395-5806 (fax). Please also forward a copy of your comments to the Information Collection Clearance Officer, U.S. Geological Survey, 807 National Center, 12201 Sunrise Valley Drive, Reston, VA 20192 (mail); 703-648-7195 (fax); or gs-info_collections@usgs.gov (email). Reference “Information Collection 1028-NEW: Registry of Climate Change Vulnerability Assessments” in all correspondence.

FOR FURTHER INFORMATION CONTACT: Robin O'Malley, National Climate Change and Wildlife Science Center, U.S. Geological Survey, 12201 Sunrise Valley Drive, Mail Stop 400, Reston, VA 20192 (mail); 703-648-4086 (phone); or romalley@usgs.gov (email). You may also find information about this ICR at www.reginfo.gov.

SUPPLEMENTARY INFORMATION:

I. Abstract

The USGS proposes to collect information on existing assessments of the vulnerability of various natural resources and societal assets to climate change (hereafter VA or “vulnerability assessments”). This information will include the organization conducting the study, study location, topical focus of the assessment, methodology and supporting data used, and point of contact information. Because many governmental and nongovernmental parties are conducting such assessments, and because their conclusions, methodologies, and related data assets may be of interest or utility to others contemplating such assessments, the USGS will make the information collected available on the Web in the form of a simple registry-type database. Users, including the general public, scientists, resource management agencies, and others will be able to search the database by various keywords of interest.

II. Data

OMB Control Number: 1028-NEW.

Title: Registry of Climate Change Vulnerability Assessments.

Type of Request: Approval of new information collection.

Respondent Obligation: None (participation is voluntary).

Frequency of Collection: This information will be collected initially and reviewed at least annually. All listed Registry projects will be contacted and requested to update their information; Federal agencies participating in the Registry will conduct “data calls” according to agency practice to identify new agency projects, and external partners will be reminded via Web posting and community-of-practice networking that new projects may be added to the Registry. Additional entries may be added at any time, as information becomes available.

Description of Respondents: Federal agencies, state, tribal and nongovernmental partners, individual scientists, and others involved in the conduct of climate change vulnerability assessments.

Estimated Total Number of Annual Responses: Approximately 1,360 responses (i.e., additions to the registry) are expected in the initial data collection phase (first year), including approximately 1200 from Federal organizations, 110 from state, local and tribal institutions, and 50 from private entities (nongovernmental organization, academic, commercial). In subsequent years, annual additions to the registry are expected to be 100 or fewer from all sources.

Estimated Time per Response: We estimate that it will take one hour per person to document a single assessment project for inclusion in the registry. In future years, reviewing project information to ensure currency or identifying new projects is expected to require de minimis effort.

Estimated Annual Burden Hours: 160 for non-Federal entities in year one and less than 50 in each subsequent year. The requirements of the Paperwork Reduction Act regarding estimation of annual burden hours do not apply to information collections from Federal agencies and are not addressed here.

Estimated Reporting and Recordkeeping “Non-Hour Cost” Burden: There are no “non-hour cost” burdens associated with this collection of information.

Public Disclosure Statement: The PRA (44 U.S.C. 3501, et seq.) provides that an agency may not conduct or sponsor and you are not required to respond to a collection of information unless it displays a currently valid OMB control number. Until the OMB approves a collection of information, you are not obliged to respond.

Comments: On August 21, 2013, we published a Federal Register notice (78 FR 162) announcing that we would submit this ICR to OMB for approval and soliciting comments. The comment period closed on October 21, 2013. We received two comments in response to that notice, each emphasizing support for the project. Specifically, the comments suggested that development of a registry would be necessary for cataloguing existing assessments and that such a registry will increase understanding of the nation's progress towards determining climate change impacts and provide insights for adaptation planning. Additionally, one commenter felt the registry will be useful for comparing assessment methods from different disciplines (e.g., ecosystems, infrastructure) and potentially reveal unrecognized connections or causal relationships between climate change and societal or natural resource vulnerabilities (e.g., ecosystem shifts and changes in vector-borne and zoonotic disease incidence). Suggested improvements included ensuring that the registry is relevant for all disciplines assessing vulnerability and implementing adaptation actions, including the public health and health care delivery services sectors. Our initial intent was to ensure that the registry would be available to all parties interested in questions of vulnerability and adaptation. We have, therefore, expanded the focus of the registry to explicitly include the health sectors cited in the received comments.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask the OMB in your comment to withhold your personally identifiable information from public review, we cannot guarantee that it will be done.

Robin I. O'Malley,
Policy and Partnership Coordinator, National Climate, Change and Wildlife Science Center, US Geological Survey.

[FR Doc. 2014-11760 Filed 5-20-14; 8:45 am]

BILLING CODE 4311-AM-P